DEPARTMENT OF ENERGY

Hydrogen Technical Advisory Panel

AGENCY: Department of Energy.

ACTION: Notice of open meeting.

SUMMARY: This notice announces a meeting of the Hydrogen Technical Advisory Panel (HTAP). Federal Advisory Committee Act (Pub. L. 92-463, 86 Stat. 770, as amended), requires that public notice of these meetings be announced in the Federal Register.

DATES: Monday, October 29, 2001, 8:30 A.M.-6 P.M.

Tuesday, October 30, 2001, 8:30 A.M.-2:30 P.M.

ADDRESSES: Desert Research Institute, Northern Nevada Science Center, 2215 Raggio Parkway, Reno Nevada 89512, Telephone: 775-673-7312.

FOR FURTHER INFORMATION CONTACT: Neil Rossmeissl, Designated Federal Officer, Hydrogen Program Manager, EE-15 Office of Power Technologies, Department of Energy, Washington, DC 20585; Telephone 202-586-8668.

SUPPLEMENTARY INFORMATION: Purpose of the Meeting: To present the HTAP Committee Reports and their proposed plans for the coming year, technical presentations and discussions with experts on hydrogen's role in national security and the status of coordination of hydrogen activities within various government offices.

Tentative Agenda

Monday, October 29, 2001

8:45, a.m.—Welcome and Introduction, J. O'Sullivan

9:15—Welcome to Desert Research Institute (DRI) and Introduction of Senator Reid, Dr. Wells

Keynote: Energy and National Security, Senator Reid, Nevada

9:45—Questions and Answers, HTAP Discussion, J. O'Sullivan

10:15—Break

10:45—Energy, Environment, and National Security, J. Hamrin

11:15—Questions and Answers, HTAP Discussion, J. O'Sullivan

12:00—Lunch

1:30

Hydrogen and National Energy Security

Mobilizing Regional Resources

Existing Hydrogen Infrastructure

Regional Domestic Resources

Technology Status Needs

3:00—Break

3:30

Mobilizing National and International Resources

Iceland's Strategic Vision

National Hydrogen Agenda for the 21st Century

4:30—Questions and Answers, HTAP Discussion, J. O'Sullivan

5:00—Public Comments

5:30—Adjourn

Tuesday, October 30, 2001

9:00 a.m.—Welcome, Recap of Day 1, J. O'Sullivan

9:10—HTAP Committee Reports

Coordination, H. Chum

Scenario Planning, H. Wedaa

Fuel Choice, R. Nichols

10:00—HTAP Discussion, J. O'Sullivan

10:30—Break

11:00—DOE Report

11:20—DOE Vision 21 Update

11:30—Public Comments

12:00—HTAP Discussion: FY 2002 Agenda and Beyond, All

Public Participation: This meeting is open to the public. Written statements may be filed with the Committee either before or after the meeting. Individuals who wish to make oral statements pertaining to agenda items should contact Mr. Neil Rossmeissl's office at the address or telephone number listed above. Request must be received 5 days prior to the meeting and a reasonable provision will be make to include the presentations in the agenda. The Designated Federal Officer is empowered to conduct the meeting in a fashion that will facilitate the orderly conduct of business. Each individual wishing to make public comment will be provided a maximum of 5 minutes to present their comments. This notice is being published less than 15 days before the date of the meeting due to the late resolution of programmatic issues.

Minutes: The minutes of this meeting will be available for public review and copying at the Freedom of Information Public Reading Room, 1E-190, Forrestal Building, 1000 Independence Avenue, SW., Washington, DC 20585 between 9:00, a.m. and 4:00, p.m., Monday through Friday, except Federal holidays. Minutes will also be available by writing to Neil Rossmeissl, Department of Energy, 1000 Independence Avenue, SW., Washington, DC 20585, or by calling (202) 586-8668.

Issued at Washington, DC on October 11, 2001.
Rachel Samuel,
Deputy Advisory Committee Management Officer.

[FR Doc. 01-26073 Filed 10-16-01; 8:45 am]

BILLING CODE 6450-01-P